NATIONAL AERONAUTICS AND SPACE ADMINISTRATION

Notice of Information Collection Under OMB Review

[Notice 03-099]

AGENCY: National Aeronautics and Space Administration (NASA).

ACTION: Notice of information collection under OMB review.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 30 calendar days from the date of this publication.

ADDRESSES: All comments should be addressed to Desk Officer for NASA; Office of Information and Regulatory Affairs; Office of Management and Budget; Room 10236; New Executive Office Building; Washington, DC 20503.

FOR FURTHER INFORMATION CONTACT: Ms. Nancy Kaplan, NASA Reports Officer, (202) 358-1372.

Title: Title IX Recipient Request.

OMB Number: 2700- .

Type of review: New collection.

Need and Uses: The information collected will be analyzed and used by NASA to determine NASA grant recipients' compliance with Title IX of the Education Amendments of 1972.

Affected Public: Not-for-profit institutions; Business or other for-profit.

Number of Respondents: 917.

Responses Per Respondent: 1.

Annual Responses: 917.

Hours Per Request: Approx. ½ hour.

Annual Burden Hours: 459.

Frequency of Report: Annually; Other (one time).

Patricia L. Dunnington,
Chief Information Officer, Office of the Administrator.

[FR Doc. 03-22691 Filed 9-5-03; 8:45 am]

BILLING CODE 7510-01-P